DEPARTMENT OF DEFENSE

Department of the Navy

Notice of Intent To Prepare an Environmental Impact Statement/Overseas Environmental Impact Statement for Point Mugu Sea Range and To Announce Public Scoping Meetings

AGENCY: Department of the Navy, DoD.

ACTION: Notice.

SUMMARY: Pursuant to section 102(2)(c) of the National Environmental Policy Act (NEPA) of 1969, as implemented by the Council on Environmental Quality, and Presidential Executive Order (E.O.) 12114, the Department of the Navy (DoN) announces its intent to prepare an Environmental Impact Statement/Overseas Environmental Impact Statement (EIS/OEIS) for the Point Mugu Sea Range. The Point Mugu Sea Range EIS/OEIS will include an assessment of potential environmental consequences associated with continuing military activities analyzed in the 2002 Point Mugu Sea Range EIS/OEIS, plus an increased tempo of military Research Development Testing and Evaluation (RDT&E) and training activities at the Point Mugu Sea Range, and new mission areas and platforms.

DATES: The 60-day public scoping period begins April 27, 2018 and ends June 26, 2018. Public scoping meetings will be held on May 15 and 16, 2018. All public comments are due by June 26, 2018.

ADDRESSES: The meetings will be held in the following locations:

1. May 15, 2018, 5:00 p.m. to 8:00 p.m., San Buenaventura City Hall, 501 Poli Street, Ventura, CA 93001-2697.

2. May 16, 2018, 5:00 p.m. to 8:00 p.m., Louise Lowry Davis Center, 1232 De La Vina Street, Santa Barbara, CA 93101-3119.

Comments may be provided at public scoping meetings, by mail, and through the project website at: http://pmsr-eis.com. Mailed comments must be postmarked no later than June 26, 2018 and mailed to the address in the FOR FURTHER INFORMATION CONTACT section for consideration in the Draft EIS/OEIS preparation. The DoN is requesting public comments on the scope of the analysis, including potential environmental issues and viable alternatives to be considered during the development of the Draft EIS/OEIS.

The scoping meetings will consist of an informal, open house session with informational poster stations staffed by DoN representatives. Meeting details will be announced in local area newspapers. Additional information on the public scoping meetings and comment submittal will be available on the project website at: http://pmsr-eis.com.

FOR FURTHER INFORMATION CONTACT: Naval Air Warfare Center Weapons Division Range Sustainability Office, Point Mugu Sea Range, Building 53A, Code 52F00ME, 575 I Avenue, Suite 1, Point Mugu, CA 93042-5049, Attn: Dr. Kenneth R. Seeley, EIS/OEIS Project Manager, 805-989-0927, or project website: http://pmsr-eis.com.

SUPPLEMENTARY INFORMATION: The DoN's action proponent is Naval Air Warfare Center Weapons Division (NAWCWD) Point Mugu Sea Range. NAWCWD Point Mugu Sea Range is located offshore of Ventura County in Southern California and includes 36,000 square miles of controlled sea and airspace designated for testing and training activities. The NAWCWD Point Mugu Sea Range meets the established mission to conduct state-of-the-art weapons systems testing and evaluation, and maintain military operational readiness, by providing a safe, operationally realistic, and thoroughly instrumented sea range testing environment. The evolution of international threats and operational technologies require large areas for testing and training.

As part of this process, the DoN will seek the issuance of regulatory permits and authorizations under the Marine Mammal Protection Act and Endangered Species Act. Pursuant to 40 CFR 1501.6, the DoN will invite the National Marine Fisheries Service to be a cooperating agency in preparation of the EIS/OEIS.

The Proposed Action is to accommodate an increase in the tempo of military RDT&E and training activities within the Point Mugu Sea Range Study Area. Proposed testing and training activities are similar to those that have occurred in the Study Area for decades. The proposed tempo is higher than the tempo covered in the 2002 Point Mugu Sea Range EIS/OEIS.

The purpose of the Proposed Action is to provide modern instrumented airspace and sea space, maneuver areas, testing and training areas, and range infrastructure to fully support current, emerging, and future RDT&E and Fleet testing and training requirements, and ensure long-term viability of the Point Mugu Sea Range while protecting human health and the environment.

The need for the Proposed Action is to allow for continued RDT&E and training activities in support of military readiness and DoD mission requirements as required by Title 10 to provide combat ready forces.

In the Point Mugu Sea Range EIS/OEIS, the DoN will evaluate the potential environmental impacts from a No Action Alternative and action alternatives. The DoN will analyze potential impacts on environmental resources resulting from activities included in the alternatives.

The scoping process is helpful in identifying public concerns and local issues to be considered during the development of the Draft EIS/OEIS. Federal, state, and local agencies; federally recognized tribes; and interested persons are encouraged to provide substantive comments to the DoN on environmental resources and issue areas of concern that the commenter believes the DoN should consider. All substantive comments, provided orally or in writing at the scoping meetings, submitted via the project website, or mailed will be taken into consideration during the development of the EIS/OEIS.

Dated: April 18, 2018.
J.E. Mosimann,
Lieutenant, Judge Advocate General's Corps, U.S. Navy, Federal Register Liaison Officer.

[FR Doc. 2018-08881 Filed 4-26-18; 8:45 am]

BILLING CODE 3810-FF-P